NUCLEAR REGULATORY COMMISSION

[Docket Nos. 50-280 and 50-281; NRC-2010-0079]

Virginia Electric and Power Company; Surry Power Station, Unit Nos. 1 and 2 (Surry 1 and 2); Correction to Environmental Assessment and Finding of No Significant Impact

AGENCY: Nuclear Regulatory Commission.

ACTION: Correction notice.

SUMMARY: This document corrects a notice appearing in the Federal Register on March 3, 2010 (75 FR 9618), that cited the implementation date for compliance with Title 10 of the Code of Federal Regulations (10 CFR), part 73 as “August 31, 2010,” rather than “August 31, 2010, and August 31, 2011, for Surry 1 and 2, respectively.” This action is necessary to add an implementation date for Surry Unit 2.

FOR FURTHER INFORMATION CONTACT: Karen Cotton, Office of Nuclear Reactor Regulation, U.S. Nuclear Regulatory Commission, Washington, DC 20555-0001; telephone, (301) 415-1438; e-mail, Karen.Cotton@nrc.gov.

SUPPLEMENTARY INFORMATION: On page 9619, in the first column, second line, it reads “implementation dated of August 31, 2010, approximately 5 months beyond the date required by 10 CFR Part 73,” and it is corrected to read “* * * implementation date of August 31, 2010 and August 31, 2011, for Surry 1 and 2, respectively, approximately 5 months for Unit 1 and 17 months for Unit 2 beyond the date required by 10 CFR part 73.”

Dated in Rockville, Maryland, this 12th day of March 2010.
For the Nuclear Regulatory Commission.
Karen Cotton,
Project Manager, Plant Licensing Branch II-1, Division of Operating Licensing, Office of Nuclear Reactor Regulation.

[FR Doc. 2010-6054 Filed 3-18-10; 8:45 am]

BILLING CODE 7590-01-P